DEPARTMENT OF EDUCATION

Advisory Committee on Student Financial Assistance: Hearing

AGENCY: Advisory Committee on Student Financial Assistance, Education.

ACTION: Notice of upcoming hearing.

SUMMARY: This notice sets forth the schedule and proposed agenda of a forthcoming hearing of the Advisory Committee on Student Financial Assistance (The Advisory Committee). Individuals who will need accommodations for a disability in order to attend the hearing (i.e., interpreting services, assistive listening devices, and/or materials in alternative format) should notify the Advisory Committee no later than Monday, February 26, 2007, by contacting Ms. Hope Gray at (202) 219-2099 or via e-mail at Hope.Gray@ed.gov. We will attempt to meet requests after this date, but cannot guarantee availability of the requested accommodation. The hearing site is accessible to individuals with disabilities. This notice also describes the functions of the Advisory Committee. Notice of this hearing is required under Section 10(a)(2) of the Federal Advisory Committee Act. This document is intended to notify the general public.

DATE AND TIME: Monday, March 5, 2007, beginning at 9:30 a.m. and ending at approximately 3 p.m.

ADDRESSES: College of the Canyons, Performing Arts Center, 26455 Rockwell Canyon Road, Santa Clarita, California 91355.

FOR FURTHER INFORMATION CONTACT: Ms. Erin B. Renner, Director of Government Relations or Ms. Julie J. Johnson, Assistant Director, Advisory Committee on Student Financial Assistance, Capitol Place, 80 F Street, NW., Suite 413, Washington, DC 20202-7582, (202) 219-2099.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act, and to make recommendations that will result in the maintenance of access to postsecondary education for low- and middle-income students. In addition, Congress expanded the Advisory Committee's mission in the Higher Education Amendments of 1998 to include several important areas; Access, Title IV modernization, distance education, and early information and needs assessment. Specifically, the Advisory Committee is to review, monitor and evaluate the Department of Education's progress in these areas and report recommended improvements to Congress and the Secretary.

The Advisory Committee has scheduled the hearing on Monday, March 5 in Santa Clarita, CA to conduct activities related to its congressionally requested study to make textbooks more affordable (Textbook Study). This one-year study, which was requested by the U.S. House of Representatives Committee on Education and Labor (formerly Education and the Workforce), will investigate further the problem of rising textbook prices; determine the impact of rising textbook prices on students' ability to afford a postsecondary education; and make recommendations to Congress, the Secretary, and other stakeholders on what can be done to make textbooks more affordable for students. Over the course of the study, the Committee will conduct three field hearings that will include testimony from stakeholders around the country who are currently working to make textbooks more affordable for students.

The proposed agenda includes expert testimony and discussions by prominent higher education community leaders, state representatives, and institutions that will share what they are doing to make textbooks more affordable for students. The Advisory Committee will also conduct a public comment and discussion session.

The Advisory Committee invites the public to submit written comments on the Textbook Study to the following e-mail address: ACSFA@ed.gov. Information regarding the Textbook Study will also be available on the Advisory Committee's Web site, http://www.ed.gov/ACSFA. To be included in the hearing materials, we must receive your comments on or before Monday, February 26, 2007; additional comments should be provided to the Committee no later than April 9, 2007.

Space for the hearing is limited and you are encouraged to register early if you plan to attend. You may register by sending an e-mail to the following address: ACSFA@ed.gov or Tracy.Deanna.Jones@ed.gov. Please include your name, title, affiliation, complete address (including internet and e-mail address, if available), and telephone and fax numbers. If you are unable to register electronically, you may fax your registration information to the Advisory Committee staff office at (202) 219-3032. You may also contact the Advisory Committee staff directly at (202) 219-2099. The registration deadline is Friday, February 23, 2007.

Records are kept for Advisory Committee proceedings, and are available for inspection at the Office of the Advisory Committee on Student Financial Assistance, Capitol Place, 80 F Street, NW.—Suite 413, Washington, DC, from the hours of 9 a.m. to 5:30 p.m. Monday through Friday, except Federal holidays. Information regarding the Advisory Committee is available on the Committee's Web site, www.ed.gov/ACSFA.

Dated: February 1, 2007.
Dr. William J. Goggin,
Executive Director, Advisory Committee on Student Financial Assistance.

[FR Doc. 07-531 Filed 2-6-07; 8:45 am]

BILLING CODE 4000-01-M